COUNCIL ON ENVIRONMENTAL QUALITY

Interagency Ocean Policy Task Force—Interim Framework for Effective Coastal and Marine Spatial Planning

AGENCY: Council on Environmental Quality.

ACTION: Notice of Availability, Interagency Ocean Policy Task Force's “Interim Framework for Effective Coastal and Marine Spatial Planning”.

SUMMARY: On June 12, 2009, the President established an Interagency Ocean Policy Task Force, led by the Chair of the Council on Environmental Quality. The Task Force was charged with, within 180 days, developing a recommended framework for effective coastal and marine spatial planning.

On December 9, 2009, the Task Force submitted its Interim Framework for Effective Coastal and Marine Spatial Planning (Interim Framework) to the President. To allow for additional public engagement and comment before the President makes any final decision on the Interim Framework, the Task Force endorsed issuing it for public review and comment.

DATES: Comments should be submitted on or before February 12, 2010.

ADDRESSES: The Task Force Interim Framework is available at http://www.whitehouse.gov/oceans. Comments on the Task Force Interim Framework should be submitted electronically to http://www.whitehouse.gov/oceans or in writing to The Council on Environmental Quality, Attn: Michael Weiss, 722 Jackson Place, NW., Washington, DC 20503.

FOR FURTHER INFORMATION CONTACT: Michael Weiss, Deputy Associate Director for Ocean and Coastal Policy, at (202) 456-3892.

SUPPLEMENTARY INFORMATION: On June 12, 2009, President Obama issued a Memorandum to the Heads of Executive Departments and Agencies that established an Interagency Ocean Policy Task Force, led by the Chair of the Council on Environmental Quality. That Presidential memo charged the Task Force with, within 90 days, developing recommendations that include: (1) A national policy for the oceans, our coasts, and the Great Lakes; (2) a United States framework for policy coordination of efforts to improve stewardship of the oceans, our coasts, and the Great Lakes; and (3) an implementation strategy that identifies and prioritizes a set of objectives the United States should pursue to meet the objectives of a national policy. On September 17, 2009, the Task Force's Interim Report addressing these three items was issued for 30 days public comment. Comments were requested to be submitted by October 17, 2009.

The Task Force was also charged with, within 180 days, developing a recommended framework for effective coastal and marine spatial planning. The memorandum provides that the framework should be “a comprehensive, integrated, ecosystem-based approach that addresses conservation, economic activity, user conflict, and sustainable use of ocean, coastal, and Great Lakes resources consistent with international law, including customary international law as reflected in the 1982 United Nations Convention on the Law of the Sea.”

In response to this direction, the Task Force has completed its Interim Framework for Effective Coastal and Marine Spatial Planning (Interim Framework). The Interim Framework proposes a new, integrated approach to better determine how the ocean, coasts, and Great Lakes are sustainably used and protected now and for future generations. It offers a foundation for coastal and marine spatial planning in the United States, and describes a flexible path forward for the regional development and implementation of comprehensive and ecosystem-based coastal and marine spatial plans. The Interim Report is now available at the Council on Environmental Quality Web site at http://www.whitehouse.gov/oceans.

Public comments are requested on or before February 12, 2010.

Dated: December 14, 2009.
Nancy H. Sutley,
Chair, Council on Environmental Quality.

[FR Doc. E9-30071 Filed 12-17-09; 8:45 am]

BILLING CODE 3125-W0-P